Title 3—

The President

Proclamation 7505 of November 21, 2001

To Modify the Tariff-Rate Quota Applicable to Imports of Steel Wire Rod

By the President of the United States of America

A Proclamation

1. On February 16, 2000, pursuant to section 203 of the Trade Act of 1974, as amended (the “Trade Act”) (19 U.S.C. 2253), President Clinton issued Proclamation 7273, which imposed a tariff-rate quota (TRQ) on certain steel wire rod imports provided for in subheadings 7213.91, 7213.99, 7227.20 and 7227.90.60 of the Harmonized Tariff Schedule of the United States (HTS) for a period of 3 years plus 1 day. Proclamation 7273 did not allocate the in-quota quantity of the TRQ among supplier countries.

2. Pursuant to section 203(g) of the Trade Act (19 U.S.C. 2253(g)), in order to provide for the efficient and fair administration of the TRQ, I have determined that the in-quota quantity of the TRQ should be allocated among supplier countries in the manner set forth in the Annex to this proclamation.

3. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including but not limited to sections 203 and 604 of the Trade Act, do proclaim that:

(1) In order to allocate the in-quota quantity of the TRQ on wire rod imports, subchapter III of chapter 99 of the HTS is modified as set forth in the Annex to this proclamation.

(2) Any provisions of previous proclamations and Executive Orders that are inconsistent with the actions taken in this proclamation are superseded to the extent of such inconsistency.

(3) Effective at the close of March 1, 2004, or such other date that is 1 year from the close of this relief, the U.S. note and tariff provisions established in the Annex of this proclamation shall be deleted from the HTS.

(4) The modifications to the HTS made by this proclamation and the Annex hereto shall be effective with respect to goods entered, or withdrawn from warehouse for consumption, after the close of November 23, 2001, and shall continue in effect through the close of March 1, 2003, unless such actions are earlier expressly modified or terminated.

IN WITNESS WHEREOF, I have hereunto set my hand this twenty-first day of November, in the year of our Lord two thousand one, and of the Independence of the United States of America the two hundred and twenty-sixth.

B

Billing code 3195-01-P

[FR Doc. 01-29654

Filed 11-27-01; 8:45 am]

Billing code 3190-01-C